DEPARTMENT OF HEALTH AND HUMAN SERVICES

Meeting of the National Vaccine Advisory Committee

AGENCY: National Vaccine Program Office, Office of the Assistant Secretary for Health, Office of the Secretary, Department of Health and Human Services.

ACTION: Notice.

SUMMARY: As stipulated by the Federal Advisory Committee Act, the Department of Health and Human Services (HHS) is hereby giving notice that the National Vaccine Advisory Committee (NVAC) will hold a meeting September 9-10, 2015. The meeting is open to the public. However, pre-registration is required for both public attendance and public comment. Individuals who wish to attend the meeting and/or participate in the public comment session should register at http://www.hhs.gov/nvpo/nvac/meetings/upcomingmeetings/. Participants may also register by emailing nvpo@hhs.gov or by calling 202-690-5566 and providing their name, organization, and email address.

DATES: The meeting will be held on September 9-10, 2015. The meeting times and agenda will be posted on the NVAC Web site at http://www.hhs.gov/nvpo/nvac/meetings/upcomingmeetings/ as soon as they become available.

ADDRESSES: U.S. Department of Health and Human Services, Hubert H. Humphrey Building, the Great Hall, 200 Independence Avenue SW., Washington, DC 20201.

The meeting can also be accessed through a live webcast the day of the meeting. For more information, visit http://www.hhs.gov/nvpo/nvac/meetings/upcomingmeetings/.

FOR FURTHER INFORMATION CONTACT: National Vaccine Program Office, U.S. Department of Health and Human Services, Room 715-H, Hubert H. Humphrey Building, 200 Independence Avenue SW., Washington, DC 20201. Phone: (202) 690-5566; email: nvpo@hhs.gov.

SUPPLEMENTARY INFORMATION: Pursuant to Section 2101 of the Public Health Service Act (42 U.S.C. 300aa-1), the Secretary of Health and Human Services was mandated to establish the National Vaccine Program to achieve optimal prevention of human infectious diseases through immunization and to achieve optimal prevention against adverse reactions to vaccines. The NVAC was established to provide advice and make recommendations to the Director of the National Vaccine Program on matters related to the Program's responsibilities. The Assistant Secretary for Health serves as Director of the National Vaccine Program.

During the September NVAC meeting, the Committee will hear updates on a number of Departmental and stakeholder activities that are working to strengthen our national immunization system. The Committee will hear an update on progress towards the Healthy People 2020 immunization goals, followed by presentations specifically examining progress towards the Healthy People 2020 goal to achieve 90% influenza vaccination coverage among healthcare personnel. In particular, the Committee will look at challenges and opportunities for helping improve influenza vaccination among healthcare personnel in long-term care settings.

The Committee also will hear about efforts to support global immunization including an introduction to a number of global immunization strategies currently under development such as an update to the CDC's Global Immunization Strategic Framework, the newly established USAID Immunization Blueprint for Action, and the Pan American Health Organization's proposed Regional Plan of Action on Immunization. In addition, the NVAC will hear a brief overview describing the success of efforts to develop the first Ebola vaccine.

The Committee will be presented with information on how data on state exemption laws is collected and used to inform studies on vaccination coverage and vaccine acceptance in specific populations. NVAC will also host a session continuing their discussions on vaccine confidence that will include studies looking at how attitudes and beliefs about immunizations change over time. Finally, the Committee will be provided with information on local and federal efforts to help increase vaccine confidence in communities. More information on the meeting agenda will be posted prior to the meeting on the NVAC Web site: http://www.hhs.gov/nvpo/nvac/meetings/upcomingmeetings/.

Public attendance at the meeting is limited to the available space. Individuals who plan to attend and need special assistance, such as sign language interpretation or other reasonable accommodations, should notify the National Vaccine Program Office at the address/phone listed above at least one week prior to the meeting. For those unable to attend in person, a live webcast will be available. More information on registration and accessing the webcast can be found at http://www.hhs.gov/nvpo/nvac/meetings/upcomingmeetings/.

Members of the public will have the opportunity to provide comments at the NVAC meeting during the public comment periods designated on the agenda. Public comments made during the meeting will be limited to three minutes per person to ensure time is allotted for all those wishing to speak. Individuals are also welcome to submit their written comments. Written comments should not exceed three pages in length. Individuals submitting written comments should email their comments to the National Vaccine Program Office (nvpo@hhs.gov) at least five business days prior to the meeting.

Dated: August 17, 2015.
Jennifer L. Gordon,
Alternate Designated Federal Official, National Vaccine Advisory Committee, National Vaccine Program Office.

[FR Doc. 2015-20943 Filed 8-24-15; 8:45 am]

BILLING CODE 4150-44-P